NATIONAL AERONAUTICS AND SPACE ADMINISTRATION

[Notice 04-099]

Notice of Prospective Patent License

AGENCY: National Aeronautics and Space Administration.

ACTION: Notice of Prospective Patent License.

SUMMARY: NASA hereby gives notice that Bigelow Development Aerospace Division, LLC, having offices in Las Vegas, NV, has applied for an exclusive license to practice the invention described and claimed in Patent No. 6,354,540 entitled “Androgynous, Reconfigurable Closed Loop Feedback Controlled Low Impact Docking System With Load Sensing Electromagnetic Capture Ring,” Case No. MSC-22931-1.

The patent is assigned to the United States of America as represented by the Administrator of the National Aeronautics and Space Administration. Written objections to the prospective grant of a license should be sent to the Johnson Space Center. NASA has not yet made a determination to grant the requested license and may deny the requested license even if no objections are submitted within the comment period.

DATES: Responses to this notice must be received by August 31, 2004.

FOR FURTHER INFORMATION CONTACT: James Cate, Patent Attorney, NASA Johnson Space Center, Mail Stop HA, Houston, TX 77058-8452; telephone (281) 483-1001.

Dated: August 5, 2004.
Keith T. Sefton,
Deputy General Counsel, Administration and Management.

[FR Doc. 04-18597 Filed 8-13-04; 8:45 am]

BILLING CODE 7510-01-P